DEPARTMENT OF THE TREASURY

Office of the Comptroller of the Currency

[Docket No. 05-09]

Privacy Act of 1974; Altered System of Records

AGENCY: Office of the Comptroller of the Currency, Treasury.

ACTION: Notice of alteration to a Privacy Act System of Records.

SUMMARY: In accordance with the requirements of the Privacy Act of 1974, as amended, the Office of the Comptroller of the Currency (OCC) is altering its system of records Treasury/Comptroller .110-Reports of Suspicious Activities.

DATES: The proposed altered system of records will become effective May 27, 2005 unless comments are received which would result in a contrary determination.

ADDRESSES: You should send your comments to the Communications Division, Docket No. 00-xx, Office of the Comptroller of the Currency, 250 E Street, SW., Washington, DC 20219-0001. You may inspect any comments received at the same location. You may send your comments by facsimile transmission to FAX number 202-874-5263 or by electronic mail to REGS.COMMENTS@OCC.TREAS.GOV.

FOR FURTHER INFORMATION CONTACT: Frank Vance, Jr., Disclosure Officer, Communications Division, (202) 874-4700 or Ellen M. Warwick, Senior Counsel, Administrative and Internal Law Division, (202) 874-4460.

SUPPLEMENTARY INFORMATION: Pursuant to the Privacy Act of 1974, as amended, 5 U.S.C. 552a, the OCC is proposing to alter a system of records, Treasury/Comptroller .110-Reports of Suspicious Activities. This system has not been updated for several years. A notice for this system of records was last published in the Federal Register at 66 FR 54334 dated October 26, 2001. The OCC is altering its current system of records covering reports of suspicious activities to clarify the system location and the system manager.

For the reasons set forth above, the OCC proposes to alter the Treasury/Comptroller .110-Reports of Suspicious Activities as follows:

Treasury/Comptroller .110

System Name:

Reports of Suspicious Activities.

System Location:

* * *

Description of change: Remove “filed by OCC personnel or by national banks, District of Columbia banks operating under the OCC's regulatory authority, or federal branches or agencies of foreign banks (OCC-regulated entities)” from the second sentence of the second paragraph and revise the second sentence to read:

“Information extracted from or relating to SARs or reports of crimes and suspected crimes is maintained in an OCC electronic database.”

* * *

* * * * *

System Managers and Address:

Description of change: Revise the system manager by removing “Enforcement and Compliance Division, Law Department” and in its place add “Special Supervision Division, Midsize/Community Bank Supervision.”

* * * * *

Dated: April 21, 2005.
Jesus H. Delgado-Jenkins,
Acting Assistant Secretary for Management.

[FR Doc. 05-8388 Filed 4-26-05; 8:45 am]

BILLING CODE 4810-33-P